ENVIRONMENTAL PROTECTION AGENCY

[ER-FRL-9006-3]

Environmental Impacts Statements; Notice of Availability

Responsible Agency: Office of Federal Activities, General Information (202) 564-7146 or http://www.epa.gov/compliance/nepa/.

Weekly receipt of Environmental Impact Statements

Filed 11/19/2012 Through 11/23/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA. While this system eliminates the need to submit paper or CD copies to EPA to meet filing requirements, electronic submission does not change requirements for distribution of EISs for public review and comment. To begin using e-NEPA, you must first register with EPA's electronic reporting site— https://cdx.epa.gov/epa_home.asp.

EIS No. 20120371, Final Supplement, USFS, MT, Beaverhead-Deerlodge National Forest Land and Resource Management Plan, To Comply with the District of Montana Court Order, Beaverhead and Jefferson Counties, MT, Contact: Peri Suenram 406-683-3900 Due to an oversight, the above document should have appeared in the 11/23/2012 FR Notice.

EIS No. 20120372, Final EIS, FAA, 00, Adoption—Programmatic-Constellation Program, Development of Flight Systems and Earth-based Ground Infrastructure for Future Missions, Brevard and Volusia Counties, FL; Hancock County, MS; Orlean Parish, LA; Harris County, TX; Madison County, AL; Cuyahoga and Erie Counties, OH; Hampton, VA; Santa Clara County, CA; Dona Ana and Otero Counties, NM; and Box Elder and Davis Counties, UT, Review Period Ends: 12/31/2012, Contact: Daniel Czelusniak 703-624-7115.

The U.S. Department of Transportation's Federal Aviation Administration has adopted the National Aeronautics and Space Administration's (NASA) final EIS filed 01/09/2008.

The NASA was not a cooperating agency for the above final EIS. Recirculation of the document is necessary under Section 1506.3(b) of the Council on Environmental Quality Regulations.

EIS No. 20120373, Draft EIS, BLM, WY, Continental Divide-Creston Natural Gas Development Project, Carbon and Sweetwater Counties, WY, Comment Period Ends: 01/14/2013, Contact: Dennis Carpenter 307-328-4200.

Amended Notices

EIS No. 20120365, Final EIS, USACE, CA, Withdrawn—Pier S Marine Terminal Development and Back Channel Improvements, Los Angeles County, CA, Review Period Ends: 12/17/2012, Contact: John W. Markham 805-585-2150 Revision to FR Published 11/16/2012; Officially Withdrawn by the preparing agency.

Dated: November 27, 2012.
Cliff Rader,
Director, NEPA Compliance Division, Office of Federal Activities.

[FR Doc. 2012-29006 Filed 11-29-12; 8:45 am]

BILLING CODE 6560-50-P